DEPARTMENT OF THE TREASURY

Submission for OMB Review; Comment Request

May 3, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 11, 2001 to be assured of consideration.

Departmental Offices/Office of Financial Institutions Policy

OMB Number: 1505-0178.

Form Number: None.

Type of Review: Extension.

Title: Community Adjustment and Investment Program Grant Agreement.

Description: The Department of the Treasury (Treasury), as Chair of the inter-agency committee established by Executive Order No. 12916, dated May 13, 1994, is sponsoring the North American Development Bank's (NADBank) collection of financial and project performance information from NADBank grantees. Respondents will be State and Local Governments, Institutions of Higher Education, and Non-Profit Organizations. NADBank disburses grants using monies transferred from the Treasury. The information collected will be used to verify grantee compliance with the terms of the Grant Agreement entered into between NADBank and each grantee.

Respondents: Not-for-profit institutions, State, Local or Tribal.

Estimated Number of Respondents/Recordkeepers: 18.

Estimated Burden Hours Per Respondent/Recordkeeper: 126 hours.

Frequency of Response: On occasion, Quarterly, Annually.

Estimated Total Reporting/Recordkeeping Burden: 414 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Mary A. Able,
Departmental Reports, Management Officer.

[FR Doc. 01-11742 Filed 5-9-01; 8:45 am]

BILLING CODE 4810-25-P